DEPARTMENT OF ENERGY

Federal Energy Regulatory Commission

[Docket No. CP08-26-000]

Columbia Gulf Transmission Company; Notice of Request Under Blanket Authorization

November 23, 2007.

Take notice that on November 13, 2007, Columbia Gulf Transmission Company (Columbia Gulf), 5151 San Felipe, Suite 2500, Houston, Texas 77056, filed in Docket No. CP08-26-000, a prior notice request pursuant to sections 157.205 and 157.210 of the Federal Energy Regulatory Commission's regulations under the Natural Gas Act for authorization to construct, own, and operate new natural gas compression facilities, located in Acadia Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TTY, (202) 502-8659.

Columbia Gulf proposes to construct two 1,775 horsepower skid-mounted compressor units, for a total of 3,550 horsepower and approximately 200 feet of 20-inch diameter station piping and appurtenances at its existing Rayne Compressor Station in Acadia Parish, Louisiana. Columbia Gulf proposes to provide an additional 180 MMcf/d of firm delivery capacity into Florida Gas Transmission Company, LLC's (FGT) system from Columbia Gulf's East Lateral system at the existing point of delivery to FGT, by increasing the operating pressure from 840 psig to 1008 psig, which is the authorized Maximum Allowable Operating pressure (the existing capacity will not increase). In addition, Columbia Gulf requests authorization to modify its existing point of delivery to FGT in Lafayette, Louisiana, by constructing an additional tap on its East Lateral Line 400 and a large meter and appurtenances. Columbia Gulf estimates the cost of construction to be $17.5 million.

Any questions regarding the application should be directed to Fredric J. George, Lead Counsel, Columbia Gulf Transmission Company, P.O. Box 1273, Charleston, West Virginia 22030-0146, call (304) 357-2359 or fax (304) 357-3206.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E7-23426 Filed 12-3-07; 8:45 am]

BILLING CODE 6717-01-P